DEPARTMENT OF THE TREASURY

Internal Revenue Service

26 CFR Part 1

[REG-150562-03]

RIN 1545-BC67

Section 1045 Application to Partnerships; Hearing Cancellation

AGENCY: Internal Revenue Service (IRS), Treasury.

ACTION: Cancellation of public hearing on proposed rulemaking.

SUMMARY: This document cancels a public hearing on a notice of proposed rulemaking that relates to partnership and their partners. The notice of public hearing under section 1045 of the Internal Revenue Code appeared in the Federal Register on Thursday, July 15, 2004, (69 FR 42370). The change in date of the public hearing and extension of time to submit outlines of oral comments appeared in the Federal Register on Thursday, September 2, 2004, (69 FR 53664).

DATES: The public hearing originally scheduled for November 2, 2004, at 10 a.m., changed to November 9, 2004, at 10 a.m., has been cancelled.

FOR FURTHER INFORMATION CONTACT: Sonya M. Cruse of the Publications and Regulations Branch, Legal Processing Division, Associate Chief Counsel (Procedures and Administration), at (202) 622-4693 (not a toll-free number).

SUPPLEMENTARY INFORMATION: A notice of proposed rulemaking and notice of public hearing that appeared in the Federal Register on Thursday, July 15, 2004, (69 FR 42370), announced that a public hearing was scheduled for November 2, 2004, at 10 a.m., in the auditorium, Internal Revenue Service Building, 1111 Constitution Avenue, NW., Washington, DC. The subject of the public hearing is under section 1045 of the Internal Revenue Code. However, a change in date of public hearing; extension of time to submit outlines of oral comments notice that appeared in the Federal Register on September 2, 2004, (69 FR 53664), announced that a public hearing was scheduled for November 9, 2004, at 10 a.m., in the auditorium, Internal Revenue Service Building, 1111 Constitution Avenue, NW., Washington, DC.

The public comment period for these regulations expired on October 19, 2004. The notice of proposed rulemaking instructed those interested in testifying at the public hearing to submit a request to speak and an outline of the topics to be addressed. As of Friday, October 22, 2004, no one has requested to speak. Therefore, the public hearing scheduled for November 9, 2004, is cancelled.

Cynthia E. Grigsby,
Acting Chief, Publications and Regulations Branch, Legal Processing Division, Associate Chief Counsel (Procedures and Administration).

[FR Doc. 04-24054 Filed 10-26-04; 8:45 am]

BILLING CODE 4830-01-U